FEDERAL COMMUNICATIONS COMMISSION

[OMB 3060-1307; FR ID 119086]

Information Collection Approved by the Office of Management and Budget (OMB)

AGENCY: Federal Communications Commission.

ACTION: Notice.

SUMMARY: The Federal Communications Commission (FCC) has received Office of Management and Budget (OMB) approval for the following public information collections pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Jonathan Lechter, at 202-418-0984.

SUPPLEMENTARY INFORMATION:

OMB Control Number: 3060-1307.

OMB Approval Date: December 12, 2022.

OMB Expiration Date: December 31, 2025.

Title: Performance Evaluation of Numbering Administration Vendor(s).

Form No.: N/A.

Respondents: Business or other for-profit entities, not-for-profit entities, State, local or Tribal Governments.

Number of Respondents and Responses: 6,161 respondents; 6,161 responses.

Estimated Time per Response: 0.25 hours.

Frequency of Response: Annual reporting requirement.

Total Annual Burden: 1,540 hours.

Annual Cost Burden: No cost.

Obligation to Respond: Voluntary. The statutory authority for this information collection is contained in 47 U.S.C. 251(e)(1).

Needs and Uses: This collection of information is an annual performance satisfaction survey of its vendor(s) acting as administrators for various telephone number management functions. These functions may be performed by one or multiple vendors under one or multiple contracts. The vendor(s) act pursuant to their contract(s) with the Federal Communications Commission (FCC) and the FCC's numbering rules. See 47 CFR 52.1 et seq.

The survey will be designed and administered by the Numbering Administration Oversight Working Group (NAOWG) of the North American Numbering Council (NANC). The NANC is a Federal Advisory Committee established under the Federal Advisory Committee Act. The NANC advises the FCC and makes recommendations, reached through consensus, that foster efficient and impartial number administration. The NANC is composed of representatives of telecommunications carriers, regulators, cable providers, Voice Over internet Protocol (VoIP) providers, industry associations, vendors, and consumer advocates. Working groups, including the NAOWG, made up of industry experts, have been established by the NANC to assist in its efforts. The NANC charter can be found at https://docs.fcc.gov/public/attachments/DOC-375774A1.pdf.

The relevant contract(s) require that the Commission and/or its designee shall develop and conduct a performance survey for each administrator. The results of this consumer satisfaction survey will provide the FCC with indicators on how well the vendor(s) are acting as the North American Numbering Program Administrator (NANPA), Pooling Administrator (PA), Routing Number Administrator (RNA) and Reassigned Numbering Database Administrator (RNDA) is meeting its contractual obligations and accomplishing its mission as the NANPA/PA/RNA/RNDA.

Federal Communications Commission.
Marlene Dortch,
Secretary, Office of the Secretary.

[FR Doc. 2022-27615 Filed 12-19-22; 8:45 am]

BILLING CODE 6712-01-P